ENVIRONMENTAL PROTECTION AGENCY

Privacy Act of 1974; System of Records

AGENCY: Environmental Protection Agency (EPA).

ACTION: Notice of a modified system of records.

SUMMARY: Pursuant to the provisions of the Privacy Act, EPA's Office of Pollution Prevention and Toxics (OPPT) is providing notice of its proposal to modify an existing system of records (SOR) by updating the category of uses to add lead-based paint and renovator professionals' photographs, to add names of training program managers and principal course instructors as well as their education or experience or training qualifications, to discuss EPA's Central Data Exchange (CDX) interconnection for online applications and notifications submissions and other administrative updates to the “Federal Lead-Based Paint Program System of Records” (FLPPSOR). FLPPSOR stores information in both electronic and hard-copy formats and contains information about individuals who have applied for certification to conduct lead-based paint and renovation, repair and painting (RRP) activities and students taking classes in lead-based paint and RRP activities. FLPPSOR contains information about individuals who have been trained or applied for certification to perform lead-based paint and RRP activities. FLPPSOR contains information about individuals who are trained or certified in the following disciplines: abatement workers, inspectors, supervisors, risk assessors, project designers, renovators and dust sampling technicians. The EPA Federal Lead-Based Paint Program system of records does not duplicate any existing system of records. The system handles Privacy Act protected information in the same manner regardless of whether the information is contained in electronic or hard-copy form.

DATES: Persons wishing to comment on this system of records notice amendment must do so by March 25, 2019.

ADDRESSES: Submit your comments, identified by Docket ID No. EPA-HQ-OEI-2017-0588, by one of the following methods:

Regulations.gov: www.regulations.gov. Follow the online instructions for submitting comments.

Email: oei.docket@epa.gov.

Fax: 202-566-1752.

Mail: OEI Docket, Environmental Protection Agency, Mail code: 2822T, 1200 Pennsylvania Ave. NW, Washington, DC 20460.

Hand Delivery: OEI Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2017-0588. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Robert Wright, National Program Chemicals Division (7404T), Office of Pollution Prevention and Toxics, Environmental Protection Agency, 1200 Pennsylvania Ave. NW, Washington, DC 20460-0001; telephone number: (202) 566-1975; email address: wright.robert@epa.gov.

SUPPLEMENTARY INFORMATION:

1. General Information

On August 29, 1996, EPA published the requirements for Lead-Based Paint Activities in Target Housing and Child-Occupied Facilities in the Federal Register with an effective date of October 28, 1996. These regulations established requirements for firms to be certified, an accreditation program for training providers, and training, certification and work practice requirements for individuals in the following abatement disciplines: Inspectors, supervisors, risk assessors, project designers and workers. On April 8, 2004, EPA published the notification requirements for Lead-Based Paint Abatement Activities and Training in the Federal Register with an effective date of May 10, 2004. These regulations established notification procedures for certified lead abatement firms to notify EPA prior to commencement of lead-based paint abatement activities and accredited training providers to notify EPA prior to teaching an abatement training course and submit a post-training notification following completion of the training course to provide EPA information about the individuals that were trained. On April 22, 2008, EPA published the RRP rule in the Federal Register with an effective date of June 23, 2008. The RRP rule established requirements for training renovators and dust-sampling technicians; certifying renovators, dust sampling technicians and renovation firms; and accrediting providers of renovator and dust sampling technician training. FLPPSOR contains information about individuals who are certified inspectors, supervisors, risk assessors, project designers, abatement workers, renovators and dust sampling technicians. Also, FLPPSOR contains the names of training program managers and principal course instructors as well as their education or experience or training qualifications. EPA administers the certification and accreditation programs in States, Tribal areas, and territories that do not have EPA's authorization to independently administer such programs. Access to the system is restricted to authorized users and will be maintained in a secure, password-protected computer system, in secure areas and buildings with physical access controls and environmental controls.

The system is maintained by EPA's Office of Chemical Safety and Pollution Prevention, Office of Pollution Prevention and Toxics.

SYSTEM NAME AND NUMBER

Federal Lead-Based Paint Program System of Records (FLPPSOR) and EPA-54.

SECURITY CLASSIFICATION:

Unclassified.

SYSTEM LOCATION:

Records maintained in FLPPSOR are stored in electronic and hard-copy formats at Research Triangle Park (RTP), NC, EPA regional offices and the Federal program contractor's office.

SYSTEM MANAGER(S):

Tanya Mottley, Director, National Program Chemicals Division, USEPA, Office of Pollution Prevention and Toxics, (7404T), 1200 Pennsylvania Ave. NW, Washington, DC 20460, (202) 566-1652; and Michelle Price, Chief, Lead, Heavy Metals and Inorganics Branch, National Program Chemicals Division, USEPA, Office of Pollution Prevention and Toxics, (7404T), 1200 Pennsylvania Ave. NW, Washington, DC 20460, (202) 566-0744.

AUTHORITY FOR MAINTENANCE OF THE SYSTEM:

40 CFR part 745 Lead—Requirements for Lead-Based Paint Activities in Target Housing and Child-Occupied Facilities and 40 CFR part 745 Lead—Renovation, Repair, and Painting Program.

PURPOSE(S) OF THE SYSTEM:

The purpose of FLPPSOR is to maintain information submitted electronically via EPA's CDX system to the Agency and through various documents under the Federal Lead-Based Paint and RRP Programs. These records include application forms, notification forms, and various support documents. FLPPSOR supports activities integral to the program (i.e., issuing certificates, analyzing information, generating letters and reports, and providing information to allow for executing various enforcement actions). EPA's CDX Customer Registration Subsystem's System of Records Notice is EPA-52 [(Federal Register: December 8, 2003 (Volume 68, Number 234)]. The CDX system has an interconnection to the FLPP Database system. On January 15, 2015, the CDX Memorandum of Understanding (MOU) and CDX Interconnection Security Agreement (ISA) documents were signed. The MOU defines the responsibilities of the participating organizations of the interconnection and the ISA specifies the technical and security requirements of the interconnection.

CATEGORIES OF INDIVIDUALS COVERED BY THE SYSTEM:

Individuals covered by the system include those who have been trained or have applied for certification to perform lead-based paint and RRP activities in the following disciplines: inspectors, supervisors, risk assessors, project designers, abatement workers, renovators, and dust sampling technicians. In addition, individuals covered by the system include training program managers and principal course instructors who have been accredited to teach lead-based paint and RRP activities in the following disciplines: inspectors, supervisors, risk assessors, project designers, abatement workers, renovators, and dust sampling technicians.

CATEGORIES OF RECORDS IN THE SYSTEM:

FLPPSOR contains individuals' names, addresses, telephone numbers, dates of birth, photographs of lead-based paint and RRP professionals, signatures, course test scores, submitted fees, and certificate numbers as well as the names of training program managers and principal course instructors as well as their education or experience or training qualifications.

RECORD SOURCE CATEGORIES:

Information is obtained from individuals who have submitted a certification application and have been trained by an accredited training provider. FLPPSOR maintains records on individuals derived from a variety of sources relating to the undertaking of individuals applying for certification and being trained to perform lead-based paint and RRP activities. Also, FLPPSOR maintains records of the names of training program managers and principal course instructors as well as their education or experience or training qualifications.

These record sources include the following forms submitted to EPA: EPA Form 8500-28, “Application and Instructions for Individuals Applying for Certification to Conduct Lead-Based Paint Activities” and EPA Form 8500-25, “Application and Instructions for Training Providers Applying for Accreditation of Lead-Based Paint Activity and Renovator Training Programs.” The information derived from these forms concerns individuals who have applied for certification or accreditation in lead-based paint or renovation, repair and painting activities. Two record sources include information derived from required notifications submitted to EPA pursuant to 40 CFR part 745. The first record source requires firms certified under 40 CFR 745.227 to provide notification to the Agency prior to conducting lead-based paint abatement activities. The second record source requires training programs accredited under 40 CFR 745.225 to provide notification to the Agency prior to (pre-training notice) and then following conducting lead-based paint and RRP activities training courses (post-training notice). The data derived from the post-training notifications includes information on inspectors, supervisors, risk assessors, project designers, abatement workers, renovators and dust sampling technicians who have been trained. Finally, other record sources of information stored in the system may include supplementary documents obtained by headquarters and regional offices in the application approval process.

ROUTINE USES OF RECORDS MAINTAINED IN THE SYSTEM, INCLUDING CATEGORIES OF USERS AND PURPOSES OF SUCH USES:

General routine uses are as follows: A, B, C, E, F, G, H, I, K(73 FR 2245). (https://www.federalregister.gov/documents/2008/01/14/E8-445/amendment-to-general-routine-uses)

In addition, the Agency may disclose information from FLPPSOR to Federal, State, or local agencies, present and former employers and business and personal associates, and hearing officials, as a given situation might require for purposes including the following:

(1) To verify the identity of the individual;

(2) To enforce the conditions or terms of the Agency's Lead-Based Paint Program and RRP Program regulations;

(3) To investigate possible fraud by, for example, applicants and users, and verify compliance with the Agency's Lead-Based Paint Program and RRP Program regulations;

(4) To prepare for litigation or to litigate fee collections and reporting enforcement matters;

(5) To initiate a limitation, suspension, and termination (LS&T) or debarment action;

(6) To investigate complaints, update files, and correct errors;

(7) To prepare for alternative dispute resolutions (ADR) in any of the cases described in paragraphs (2), (3), and (4);

(8) To engage in audits or other internal matters within EPA;

(9) To contact certified individuals and applicants in the event of a system modification that changes their application or certification information; or

(10) To respond to a change to FLPPSOR, as in the case of a modification, revocation, or termination of a user's access privileges.

(11) Disclosure to Persons or Entities in Response to an Actual or Suspected Compromise or Breach of Personally Identifiable Information

To appropriate agencies, entities, and persons when (1) the Agency suspects or has confirmed that there has been a breach of the system of records,· (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

(12) Disclosure to assist another agency in its efforts to respond to a breach.

To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Storage: Records maintained under the FLPPSOR are stored in different formats and in several locations. Each of these record collections, which together comprise the FLPPSOR, must adhere to the requirements of the Privacy Act and are subject to the rules and restrictions for disclosure of information specified under the Freedom of Information Act.

(1) The main system is located at EPA's National Computer Center (NCC) in Research Triangle Park (RTP), North Carolina. This database contains information entered from some of the primary sources listed above under “Categories of Records in the System” (submitted form and notifications).

(2) Hard-copy files are located in EPA regional offices and the facility operated by EPA's Federal program contractor's office. These records include the original or photocopied paper submissions (including supplementary information) provided to the Agency.

(3) EPA regional offices have developed electronic systems for their local uses. These electronic records are maintained separate from the main central server at RTP and are used solely by the regional offices.

POLICIES AND PRACTICES FOR RETRIEVAL OF RECORDS:

Retrievability: Records are retrieved by an individual's name, application ID number, applicant ID number, or program activity.

POLICIES AND PRACTICES FOR RETENTION AND DISPOSAL OF RECORDS:

Retention and Disposal: EPA will retain and dispose of these records in accordance with the EPA Records Schedule 089 and the National Archives and Records Administration General Records Schedule 23/8. Application records maintained in the system are deleted/destroyed two years after the date of the last entry.

ADMINISTRATIVE, TECHNICAL, AND PHYSICAL SAFEGUARDS:

Safeguards: Physical access to the system housed in the facility at RTP is controlled by a computerized badge-reading system, with security patrols during non-business hours. All interactions between the system and the authorized individual users are recorded through use of a card reader and tracking database. Paper records stored at EPA's Federal program contractor and storage facility are protected by computerized badge-reading security systems, with files maintained in locked file drawers. Records stored at EPA offices are secured through building security protocols and computerized badge-reading systems. FLPP's Security Manager gives access and assigns the different access roles to FLPP users. The FLPP database uses an authentication system to valid FLPP users to have access to use the database.

RECORD ACCESS PROCEDURES:

Requesters seeking access to this system of records must follow the “Notification Procedure” listed below and will be required to provide adequate identification (e.g., driver's license, military identification card, employee badge or identification card). Additional identity verification procedures may be required as warranted. Requests must meet the requirements of EPA regulations at 40 CFR part 16.

CONTESTING RECORD PROCEDURES:

If you wish to contest a record in the system of records, contact the Agency's National Privacy Program as described under “Notification Procedure” listed below. Your written inquiry should identify the record(s) to be corrected, the corrective action sought, including any requested amendment to the records, and any supporting documentation you consider relevant to EPA's consideration of your request.

NOTIFICATION PROCEDURE:

Requests to determine whether this system of records contains a record pertaining to you must be sent to the Agency's National Privacy Program. The address is: U.S. Environmental Protection Agency; 1200 Pennsylvania Ave. NW, Room 2335 West; Washington, DC 20460; (202) 566-1668; Email: (privacy@epa.gov); Attn: Agency Privacy Officer.

EXEMPTIONS PROMULGATED FOR THE SYSTEM:

None.

HISTORY:

70 FR 35251—Established a new System of Records (SOR) under the Federal Lead-Based Paint Program (June 17, 2005).

74 FR 42298—Amended an existing system of records (SOR) by changing the title of “Lead-Based Paint System of Records” (LPSOR) to the “Federal Lead-Based Paint Program System of Records” (FLPPSOR).

Dated: September 11, 2018.
Vaughn Noga,
Principal Deputy Assistant Administrator.

[FR Doc. 2019-03107 Filed 2-21-19; 8:45 am]

BILLING CODE 6560-50-P